DEPARTMENT OF TRANSPORTATION

Federal Motor Carrier Safety Administration

Sunshine Act Meeting; Unified Carrier Registration Plan Board of Directors

AGENCY: Federal Motor Carrier Safety Administration (FMCSA), DOT.

Dates: Time and Date: June 15, 2009, at 1 p.m. (only the Board's Industry Advisory Subcommittee will meet on this day), June 16, 2009, from 1 p.m. until 5 p.m., and June 17, 2009, from 8 a.m. until 12 Noon, Eastern Daylight Time.

Place: This meeting will take place at The Hershey Lodge and Conference Center, 1077 West Governor, Hershey, Pennsylvania, 17033.

Status: Open to the public.

Matters To Be Considered: The Unified Carrier Registration Plan Board of Directors (the Board) will continue its work in developing and implementing the Unified Carrier Registration Plan and Agreement and to that end, may consider matters properly before the Board.

FOR FURTHER INFORMATION CONTACT: Mr. Avelino Gutierrez, Chair, Unified Carrier Registration Plan Board of Directors at (505) 827-4565.

Dated: May 15, 2009.
Larry W. Minor,
Associate Administrator for Policy and Program Development.

[FR Doc. E9-11763 Filed 5-15-09; 4:15 pm]

BILLING CODE 4910-EX-P